DEPARTMENT OF TRANSPORTATION

Office of the Secretary

[Docket No. DOT-OST-2018-0204]

Air Carrier Access Act Advisory Committee; Notice of Public Meeting

AGENCY: Office of the Secretary (“OST”), Department of Transportation (“DOT”).

ACTION: Notice of public meeting.

SUMMARY: This notice announces a meeting of the Air Carrier Access Act Advisory Committee (“ACAA Advisory Committee”).

DATES: The ACAA Advisory Committee will hold virtual meetings on September 2, 8 and 9, 2021, from 9:00 a.m. to 5:00 p.m., Eastern Daylight Time.

Requests to attend the meeting must be received by August 30, 2021.

Requests for accommodations because of a disability must be received by August 30, 2021. If you wish to speak during the meeting, you must submit a written copy of your remarks to DOT by August 30, 2021.

Requests to submit written materials to be reviewed during the meeting must be received no later than August 30, 2021.

ADDRESSES: The virtual meetings will be open to the public and held via the Zoom Webinar Platform. Virtual attendance information will be provided upon registration. A detailed agenda will be available on the ACAA Advisory Committee website at https://www.transportation.gov/airconsumer/ACAACommittee at least one week before the meeting, along with copies of the meeting minutes after the meeting.

FOR FURTHER INFORMATION CONTACT: To register and attend this virtual meeting, please contact the Department by email at ACAA-Advisory-Committee@dot.gov. Attendance is open to the public subject to any technical and/or capacity limitations. For further information, please contact Vinh Nguyen, Senior Attorney, by email at vinh.nguyen@dot.gov.

SUPPLEMENTARY INFORMATION:

I. Background

The ACAA Advisory Committee was created under the Federal Advisory Committee Act (“FACA”), in accordance with Section 439 of the FAA Reauthorization Act of 2018 (“FAA Act”), to identify and assess barriers to accessible air travel, determine the extent to which DOT's programs and activities are addressing the barriers, recommend improvements, and advise the Secretary on implementing the Air Carrier Access Act. The charter of the ACAA Advisory Committee sets forth policies for the operation of the advisory committee. The charter is available at https://www.transportation.gov/individuals/aviation-consumer-protection/charter-air-carrier-access-act-advisory-committee.

The first meeting of the ACAA Advisory Committee was held on March 10 and 11, 2020, in Washington, DC. The purpose of the first meeting was to gather information on the barriers encountered by passengers with disabilities in the following areas: Ticketing; pre-flight seat assignments; access to bulkhead seating; stowage of assistive devices; and guide and wheelchair assistance at airports and on aircraft. In each of these areas, the ACAA Advisory Committee heard from speakers who provided an overview of: The applicable rules, requirements, and complaint data; challenges faced by air travelers with disabilities; and airlines' policies and procedures. In addition, the Department presented a working draft of the “Airline Passenger with Disabilities Bill of Rights” to the ACAA Advisory Committee for discussion.

At that first meeting, the ACAA Advisory Committee also discussed the benefits of establishing subcommittees to help the Committee with its work. Soon thereafter the Department established three subcommittees to address: (1) Ticketing practices and seating accommodations; (2) stowage of assistive devices; and (3) assistance at airports and on aircraft and related training of carrier personnel and contractors. The Subcommittees submitted reports with recommendations to the ACAA Advisory Committee members for their consideration. The reports are available for public review on the ACAA Advisory Committee's docket, DOT-OST-2018-0204.

II. Summary of the Agenda

During the September 2, 8 and 9, 2021 meeting, the ACAA Advisory Committee will deliberate on the Subcommittees' recommendations and continue its discussion of the draft Airline Passenger with Disabilities Bill of Rights. A more detailed agenda will be made available at least one week before the meeting at https://www.transportation.gov/airconsumer/ACAACommittee.

III. Public Participation

The meeting will be open to the public and attendance may be limited due to virtual meeting constraints. To register, please send an email to the Department as set forth in the FOR FURTHER INFORMATION CONTACT section. The Department is committed to providing equal access to this meeting for all participants. If you need alternative formats or services because of a disability, such as sign language interpreter or other ancillary aids, please contact the person listed in the FOR FURTHER INFORMATION CONTACT section above no later than August 30, 2021.

Members of the public may also present written comments at any time. The docket number referenced above (DOT-OST-2018-0204) has been established for committee documents, including any written comments that may be filed. At the discretion of the Chair or DFO, after completion of the planned agenda, individual members of the public may provide comments through the chat feature of the webinar platform or orally, time permitting. Any oral comments presented must be limited to the objectives of the committee and will be limited to five (5) minutes per person. Individual members of the public who wish to present oral comments must notify the Department of Transportation contact noted above via email that they wish to attend and present oral comments no later than August 30, 2021.

Speakers are requested to submit a written copy of their prepared remarks for inclusion in the meeting records and for circulation to ACAA Advisory Committee members by August 30, 2021. All prepared remarks submitted on time will be accepted and considered as part of the meeting's record.

IV. Viewing Documents

You may view documents mentioned in this notice at https://www.regulations.gov. After entering the docket number (DOT-OST-2018-0204), click the link to “Open Docket Folder” and choose the document to review.

Issued in Washington, DC, this 10th day of August 2021.
John E. Putnam,
Acting General Counsel.

[FR Doc. 2021-17431 Filed 8-13-21; 8:45 am]

BILLING CODE P